DEPARTMENT OF THE INTERIOR

Bureau of Land Management

[NV-020-1430-EU]

Termination of Desert Land Entry Classification and Segregation; Nevada

AGENCY: Bureau of Land Management, Interior.

ACTION: Notice.

SUMMARY: This action terminates the desert-land classification N-58996, dated April 8, 1982, and also terminates the segregation for desert-land entries N-24429, N-24431, and N-24432, dated December 18, 1996. The land will be opened to the operation of the public land laws, including location and entry under the mining laws.

EFFECTIVE DATE: March 16, 2001.

FOR FURTHER INFORMATION CONTACT: Mary L. Figarelle, Winnemucca Field Office, 5100 E. Winnemucca Boulevard, Winnemucca, Nevada 89445, 775-623-1500.

SUPPLEMENTARY INFORMATION: The desert-land classification for N-58996 was made on April 8, 1982, pursuant to Section 7 of the Taylor Grazing Act (43 U.S.C., etc. seq.). When entry to the land was allowed on December 18, 1996 for desert-land entries N-24429, N-24431, and N-24432, the lands became segregated from all other forms of appropriation under the public land laws, including location and entry under the mining laws. All three desert-land entrymen withdrew their applications after failing to provide final proof by the deadline of December 28, 2000.

Pursuant to Section 7 of the Taylor Grazing Act (43 U.S.C., et. seq.), the desert land classification N-58996 made on April 8, 1982, and the desert-land entries allowed on December 18, 1996, are hereby terminated for the following described lands:

Mount Diablo Meridian, Nevada

T. 41 N., R. 28 E.,

Sec. 2: SW¼SW¼;

Sec. 3: S½S½;

Sec. 4: SE¼SE¼;

Sec. 9: NE¼NE¼; S½NE¼, SE¼NW¼, NE¼SW¼, N½SE¼;

Sec. 10: N½, NW¼SW¼;

Sec. 11: W½NW¼.

The area described contains 960 acres in Humboldt County.

1. At 9 a.m. on March 16, 2001, the land described above will be opened to the operation of the public land laws generally, subject to valid existing rights, the provision of existing withdrawals, other segregation of record, and the requirements of applicable law. All valid applications received at or prior to 9 a.m. on March 16, 2001, shall be considered as simultaneously filed at that time. Those received thereafter shall be considered in the order of filing.

2. At 9 a.m. on March 16, 2001, the land described above will be opened to location and entry under the United States mining laws, subject to valid existing rights, the provisions of existing withdrawals, other segregation of record, and the requirements of applicable law. Appropriation of any of the land described in this order under the general mining laws prior to the date and time of restoration is unauthorized. Any such attempted appropriation, including attempted adverse possession under 30.U.S.C. 38 (1988), shall best not rights against the United States. Acts required to establish a location and to initiate a right of possession are governed by State law where not in conflict with Federal law. The Bureau of Land Management will not intervene in disputes between rival locators over possessory rights since Congress has provided for such determinations in local courts.

Dated: January 30, 2001.
Michael R. Holbert,
Associate Field Manager.

[FR Doc. 01-3747 Filed 2-13-01; 8:45 am]

BILLING CODE 4310-HC-P